NUCLEAR REGULATORY COMMISSION

[Docket No. 50-397; NRC-2012-0322]

Energy Northwest; Columbia Generating Station; Exemption

1.0 Background

Energy Northwest (the licensee) is the holder of Renewed Facility Operating License No. NPF-21, which authorizes operation of the Columbia Generating Station. The license provides, among other things, that the facility is subject to all rules, regulations, and orders of the U.S. Nuclear Regulatory Commission (NRC, the Commission) now or hereafter in effect.

The facility consists of a boiling-water reactor located in Benton County in the state of Washington.

2.0 Request/Action

The regulations in paragraph 50.36a(a)(2) of Title 10 of the Code of Federal Regulations (10 CFR), require a radioactive effluent release report for each commercial nuclear power plant to be submitted annually such that the time between submission of any two reports is not longer than 12 months.

The licensee's Technical Specification (TS) 5.6.2, “Radioactive Effluent Release Report,” requires the Annual Radioactive Effluent Release Report (ARERR) to be submitted in accordance with 10 CFR 50.36a as specified in the licensee's Offsite Dose Calculation Manual (ODCM). The licensee's ODCM specifies the ARERR to be submitted within 60 days after January 1 of each calendar year. The licensee indicates this constitutes an undue administrative burden due to the compressed schedule for data collection, report preparation, and internal review following closure of the reporting period. As a result, the licensee wants to change the ODCM so that the report can be submitted prior to May 1 of each year. In order to implement this change to the ODCM, the licensee has requested a one-time exemption from the required 12-month reporting interval for the next required submittal of the ARERR for the Columbia Generating Station. This would result in a one-time allowance of an additional 2 months (i.e., a 14-month interval) for the next required submittal of the ARERR. An exemption is needed because 10 CFR 50.36a(a)(2) specifies the interval between submittal of successive ARERRs must not exceed 12 months.

In summary, the end result of this exemption would be that the time interval between the 2011 and the 2012 ARERRs (generated in March 2012 and May 2013) would be 14 months. This is a one-time exemption, and subsequent ARERRs, generated in 2014 and beyond, would be subject to the 12-month interval specified in 10 CFR 50.36a(a)(2).

3.0 Discussion

Pursuant to 10 CFR 50.12, the Commission may, upon application by any interested person or upon its own initiative, grant exemptions from the requirements of 10 CFR part 50 when (1) the exemptions are authorized by law, will not present an undue risk to public health or safety, and are consistent with the common defense and security; and (2) when special circumstances are present. These circumstances include the special circumstances that would provide only temporary relief from the applicable regulation and the licensee or applicant has made good faith efforts to comply with the regulations.

Authorized by Law

This exemption would allow the time interval between the 2011 and the 2012 ARERRs (generated in March 2012 and May 2013 respectively) to be increased to 14 months. This is a one-time exemption, and subsequent ARERRs, generated in 2014 and beyond, would be subject to the 12-month interval specified in 10 CFR 50.36a(a)(2). As stated above, 10 CFR 50.12 allows the NRC to grant exemptions from the requirements of 10 CFR 50.36a(a)(2). The NRC staff has determined that granting of the licensee's proposed exemption will not result in a violation of the Atomic Energy Act of 1954, as amended, or the Commission's regulations. Therefore, the exemption is authorized by law.

No Undue Risk to Public Health and Safety

The underlying purposes of 10 CFR 50.36a(a)(2) is to ensure that once each year, prior to a specified date, the licensee submits an ARERR to the NRC that specifies (1) the principal radionuclides released in liquid and gaseous effluents, (2) the amounts of each radionuclide released, and (3) other such information that may be required by the NRC to estimate doses to members of the public in the unrestricted areas during the previous calendar year. The proposed exemption only changes the date the ARERR would be submitted to the NRC, but does not change any of the information presented in the ARERR.

Based on the above, no new accident precursors are created by extending the submittal date for the next ARERR (from prior to March 1) to prior to May 1, thus, the probability of postulated accidents is not increased. Also, based on the above, the consequences of postulated accidents are not increased. Therefore, there is no undue risk to public health and safety.

Consistent With Common Defense and Security

The proposed exemption would extend the time interval between the 2011 and the 2012 ARERRs (generated in March 2012 and May 2013, respectively) to 14 months. This is a one-time exemption, and subsequent ARERRs, generated in 2014 and beyond, would be subject to the 12-month interval specified in 10 CFR 50.36a(a)(2). This change to the date the ARERR is submitted to the NRC has no relation to security issues. Therefore, the common defense and security is not impacted by this exemption.

Special Circumstances

Special circumstances, in accordance with 10 CFR 50.12(a)(2)(v), are present whenever application of the regulation in the particular circumstances would provide only temporary relief from the applicable regulation and the licensee has made good faith efforts to comply with the regulation. The requested exemption asks for a one-time relaxation of the 12-month ARERR reporting requirement. Therefore, the relief is temporary. The licensee has submitted an annual report at the 12-month reporting interval every year since 1985. The NRC staff agrees submitting the report within 60 days of January 1 may present an undue administrative burden due to the necessary data collection, report preparation, and internal review. The licensee agrees to submit the report, in its entirety, within 2 months of the required 12-month reporting interval. In addition, ARERRs generated in 2014 and beyond, would be subject to the 12-month interval specified in 10 CFR 50.36a(a)(2) with ARERRs being submitted prior to May 1 of each year. As a result, the NRC staff concludes the licensee has made a good faith effort to comply with the regulation. Therefore, since the underlying purpose of 10 CFR 50.36a(a)(2) is achieved, the special circumstances required by 10 CFR 50.12(a)(2)(v) for the granting of an exemption from 10 CFR 50.36a(a)(2) exist.

4.0 Environmental Consideration

This exemption authorizes a one-time exemption from the requirements of 10 CFR 50.36a(a)(2) for the CGS. The NRC staff has determined that this exemption involves no significant hazards considerations:

(1) The proposed exemption is limited to a one-time 2-month extension for submittal of the 2012 ARERR. The proposed exemption does not make any changes to the facility or operating procedures and does not alter the design, function or operation of any plant equipment. Therefore, issuance of this exemption does not increase the probability or consequences of an accident previously evaluated.

(2) The proposed exemption is limited to a one-time 2-month extension for submittal of the 2012 ARERR. The proposed exemption does not make any changes to the facility or operating procedures and would not create any new accident initiators. The proposed exemption does not alter the design, function or operation of any plant equipment. Therefore, this exemption does not create the possibility of a new or different kind of accident from any accident previously evaluated.

(3) The proposed exemption is limited to a one-time 2-month extension for submittal of the 2012 ARERR. The proposed exemption does not alter the design, function or operation of any plant equipment. Therefore, this exemption does not involve a significant reduction in the margin of safety.

Based on the above, the NRC staff concludes that the proposed exemption does not involve a significant hazards consideration under the standards set forth in 10 CFR 50.92(c), and accordingly, a finding of “no significant hazards consideration” is justified.

The NRC staff has also determined that the exemption involves no significant increase in the amounts, and no significant change in the types, of any effluent that may be released offsite; there is no significant increase in individual or cumulative occupational radiation exposure; there is no significant construction impact; and there is no significant increase in the potential for or consequences from a radiological accident. Furthermore, the requirement from which the licensee will be exempted involves reporting requirements. Accordingly, the exemption meets the eligibility criteria for categorical exclusion set forth in 10 CFR 51.22(c)(25). Pursuant to 10 CFR 51.22(b), no environmental impact statement or environmental assessment needs to be prepared in connection with the issuance of this exemption.

5.0 Conclusion

Accordingly, the Commission has determined that, pursuant to 10 CFR 50.12, the exemption is authorized by law, will not present an undue risk to the public health and safety, and is consistent with the common defense and security. Also, special circumstances are present. Therefore, the Commission hereby grants Energy Northwest a one-time exemption from 10 CFR Part 50, Section 50.36a(a)(2) to submit the 2012 ARERR prior to May 1, 2013, for the Columbia Generating Station.

This exemption is effective upon issuance.

Dated at Rockville, Maryland, this 21st day of December 2012.
For the Nuclear Regulatory Commission.
Michele G. Evans,
Director, Division of Operating Reactor Licensing, Office of Nuclear Reactor Regulation.

[FR Doc. 2012-31707 Filed 1-3-13; 8:45 am]

BILLING CODE 7590-01-P